DEPARTMENT OF HEALTH AND HUMAN SERVICES

Health Resources and Services Administration

Discretionary Grant Program

AGENCY: Health Resources and Services Administration (HRSA), Department of Health and Human Services (HHS).

ACTION: Notice of Class Deviation from Competition Requirements for the Maternal and Child Health Bureau's (MCHB) Family-to-Family Health Information Centers (F2F HIC) Program (H84).

SUMMARY: HRSA will be issuing non-competitive awards under the F2F HIC program. Approximately $5 million will be made available in the form of a grant to current grantees (see below) covering the period of 6/1/2014-5/31/2015. This will provide for an extension of the program, as provided for in Section 1203 of the Pathway for SGR Reform Act of 2013 (Pub. L. 113-67) and Section 207 of the Protecting Access to Medicare Act of 2014 (Pub. L. 113-93) with the least disruption to the states, communities, and constituencies that currently receive assistance and services from these grantees.

SUPPLEMENTARY INFORMATION: Intended Recipients of the Awards: The 51 incumbent grantees of record (listed below).

Amount of the Non-Competitive Awards: Up to $95,700 per grantee.

CFDA Number: 93.504.

Period of Supplemental Funding: 6/1/2014-5/31/2015.

Authority: Section 501(c)(1) of the Social Security Act, as amended.

Justification: The F2F HIC program provides grants to family-run/staffed organizations to ensure families of children with special health care needs have access to adequate information about health and community resources to facilitate informed and shared decision-making around their children's health care. F2F HICs were originally authorized under the Budget Deficit Reduction Act of 2005 (Pub. L. 109-171). Congress specified that there be a family-run/staffed center in each state and the District of Columbia that, among other tasks, assists families of children with special health care needs to make informed choices about health care in order to promote good treatment decisions, cost effectiveness, and improved health outcomes; and provides information and educational opportunities for families, their health professionals, schools, and other appropriate entities. The earlier law was later amended by the Patient Protection and Affordable Care Act of 2010 (Pub. L. 111-148), which made funding available until fiscal year (FY) 2012. Section 624 of the American Taxpayers Relief Act of 2013 (Pub. L. 112-240) extended the F2F HICs through fiscal year (FY) 2013 with the F2F HIC program scheduled to end on May 31, 2014. As the F2F HIC project period quickly approached and continued funding was not provided in the President's Budget of FY 2014, the MCHB prepared for closeout of the program.

On December 26, 2013, Section 1203 of the Pathway for SGR Reform Act of 2013 (SGR Reform Act) (Pub. L. 113-67) extended the F2F HICs with $2.5 million for a portion of FY 2014. Additionally, on April 1, 2014, Section 207 of the Protecting Access to Medicare Act of 2014 (Access to Medicare) (Pub. L. 113-93) extended this program with $2.5 million for the remainder of FY 2014 and $2.5 million for a portion of FY 2015.

Under typical circumstances, the project period for the grantees would end on May 31, 2014, and a robust competitive process would take place. However, taking into account the timing of congressional action on SGR Reform within the current fiscal year, MCHB would not have sufficient time to conduct a robust competition and appropriately enact the legislation. MCHB proposes to extend the project periods of these grants by 12 months to properly respond to direction of the F2F HIC program's extension, enacted in the SGR Reform Act and the Access to Medicare Act. This will provide sufficient fiscal resources to continue programmatic activities as outlined in program authorization with the least disruption to the states, communities, and MCHB constituencies that currently receive assistance and services from these grantees. Delaying the competition until FY 2015 ensures continuity of funding for all eligible entities, with no eligible entity being adversely impacted by the extension.

FOR FURTHER INFORMATION CONTACT: LaQuanta Smalley, Integrated Services Branch, Division of Services for Children with Special Health Needs, Maternal and Child Health Bureau, Health Resources and Services Administration, 5600 Fishers Lane, Room 13-61, Rockville, MD 20857; (301) 443-2372; lsmalley@hrsa.gov.

Maternal and Child Health Bureau Selected Grant Programs Extensions With Funding
Grantee/organization name | Grant No. | State | FY 2014 authorized funding level | Revised project end date
Stone Soup Group | H84MC12893 | AK | $95,700 | 31-May-2015
Family Voices of Alabama Inc | H84MC12901 | AL | 95,700 | 31-May-2015
Arkansas Disability Coalition | H84MC12900 | AR | 95,700 | 31-May-2015
Raising Special Kids | H84MC07942 | AZ | 95,700 | 31-May-2015
Support for Families of Children w/Disabilities | H84MC07943 | CA | 95,700 | 31-May-2015
Colorado Nonprofit Development Center | H84MC15142 | CO | 95,700 | 31-May-2015
PATH Parent to Parent/Family Voices of CT | H84MC21663 | CT | 95,700 | 31-May-2015
Advocates for Justice and Education, Inc | H84MC21661 | DC | 95,700 | 31-May-2015
Delaware Family Voices, Inc | H84MC21662 | DE | 95,700 | 31-May-2015
Family Network on Disabilities of Florida, Inc | H84MC21660 | FL | 95,700 | 31-May-2015
Parent to Parent of Georgia, Inc | H84MC07947 | GA | 95,700 | 31-May-2015
Hawaii Pediatric Association Research & Education Foundation | H84MC07999 | HI | 95,700 | 31-May-2015
ASK Resource Center | H84MC24065 | IA | 95,700 | 31-May-2015
Idaho Parents Unlimited Inc | H84MC12896 | ID | 95,700 | 31-May-2015
The Arc of Illinois | H84MC06873 | IL | 95,700 | 31-May-2015
Family Voices Indiana | H84MC21659 | IN | 95,700 | 31-May-2015
Families Together, Inc | H84MC09487 | KS | 95,700 | 31-May-2015
Commission for CSHCN | H84MC12897 | KY | 95,700 | 31-May-2015
Bayou Land Families Helping Families | H84MC08043 | LA | 95,700 | 31-May-2015
Federation for Children with Special Needs | H84MC08005 | MA | 95,700 | 31-May-2015
The Parent's Place of Maryland | H84MC07946 | MD | 95,700 | 31-May-2015
Maine Parent Federation | H84MC00003 | ME | 95,700 | 31-May-2015
Michigan Public Health Institute | H84MC26214 | MI | 95,700 | 31-May-2015
PACER Center, Inc | H84MC00005 | MN | 95,700 | 31-May-2015
Curators, University of Missouri | H84MC09484 | MO | 95,700 | 31-May-2015
University of Southern Mississippi | H84MC07948 | MS | 95,700 | 31-May-2015
Parent's Let's Unite for Kids | H84MC09367 | MT | 95,700 | 31-May-2015
Exceptional Children's Assistance Center | H84MC08000 | NC | 95,700 | 31-May-2015
Family Voices of North Dakota, Inc | H84MC07992 | ND | 95,700 | 31-May-2015
PTI Nebraska | H84MC08009 | NE | 95,700 | 31-May-2015
NH Coalition for Citizens w/Disabilities | H84MC09488 | NH | 95,700 | 31-May-2015
Statewide Parent Advocacy Network of NJ | H84MC07997 | NJ | 95,700 | 31-May-2015
Parents Reaching Out to Help | H84MC08007 | NM | 95,700 | 31-May-2015
Family TIES of Nevada, Inc | H84MC08001 | NV | 95,700 | 31-May-2015
Parent to Parent of NYS | H84MC08006 | NY | 95,700 | 31-May-2015
Family Voices of Ohio | H84MC12903 | OH | 95,700 | 31-May-2015
The Oklahoma Family Network, Inc | H84MC09368 | OK | 95,700 | 31-May-2015
Oregon Health and Science University | H84MC21658 | OR | 95,700 | 31-May-2015
Parent Education & Advocacy Leadership Center | H84MC07998 | PA | 95,700 | 31-May-2015
Rhode Island Parent Information Network, Inc | H84MC08002 | RI | 95,700 | 31-May-2015
Family Connection of South Carolina, Inc | H84MC12895 | SC | 95,700 | 31-May-2015
South Dakota Parent Connection, Inc | H84MC07994 | SD | 95,700 | 31-May-2015
Tennessee Disability Coalition | H84MC00004 | TN | 95,700 | 31-May-2015
Texas Parent to Parent | H84MC07993 | TX | 95,700 | 31-May-2015
Utah Parent Center | H84MC07996 | UT | 95,700 | 31-May-2015
Virginia Commonwealth University | H84MC09486 | VA | 95,700 | 31-May-2015
Vermont Family Network | H84MC21657 | VT | 95,700 | 31-May-2015
Washington PAVE | H84MC09369 | WA | 95,700 | 31-May-2015
Family Voices of Wisconsin, Inc. | H84MC21690 | WI | 95,700 | 31-May-2015
West Virginia Parent Training and Information, Inc. | H84MC12898 | WV | 95,700 | 31-May-2015
University of Wyoming | H84MC24069 | WY | 95,700 | 31-May-2015

Dated: May 29, 2014.
Mary K. Wakefield,
Administrator.

[FR Doc. 2014-13005 Filed 6-3-14; 8:45 am]

BILLING CODE 4165-15-P